SECURITIES AND EXCHANGE COMMISSION

[File No. 500-1 ]

Hunt Gold Corporation, F/K/A Prime Time Group, Inc.; Order of Suspension of Trading

June 15, 2009.

It appears to the Securities and Exchange Commission that there is a lack of current and accurate information concerning the securities of Hunt Gold Corporation, f/k/a Prime Time Group, Inc. (“Hunt Gold”) because questions have been raised about the accuracy and adequacy of publicly disseminated information concerning, among other things, Hunt Gold's gold mining exploration business.

The Commission is of the opinion that the public interest and the protection of investors require a suspension of trading in the securities of Hunt Gold.

Therefore, it is ordered, pursuant to Section 12(k) of the Securities Exchange Act of 1934, that trading in Hunt Gold securities is suspended for the period from 9:30 a.m. EDT on June 15, 2009, through 11:59 p.m. EDT on June 26, 2009.

By the Commission.
Jill M. Peterson,
Assistant Secretary.

[FR Doc. E9-14300 Filed 6-15-09; 4:15 pm]

BILLING CODE 8010-01-P